FEDERAL COMMUNICATIONS COMMISSION

47 CFR Part 73

[DA No. 03-144; MM Docket No. 99-331; RM-9728, RM-9847 and RM-9848]

Radio Broadcasting Services, Bay City, College Station, Columbus, Edna, Garwood, Giddings, Madisonville, Palacios and Sheridan, TX

AGENCY: Federal Communications Commission.

ACTION: Final rule.

SUMMARY: In response to a petition filed by Sunburst Media, LP proposing the reallotment of Channel 241C2 from Madisonville, Texas, to College Station, Texas, and modification of the license for Station KAAG accordingly, the Commission issued a Notice of Proposed Rule Making. See 64 FR 68662, December 8, 1999. The proposal for Madisonville and College Station has been withdrawn. Two counterproposals were filed in response to the Notice. The counterproposal filed by Garwood Broadcasting Company of Texas which involved the communities of Bay City, Columbus, Edna, Garwood, Palacios and Sheridan, Texas, has been denied. In response to a counterproposal filed by Giddings Community Broadcasting Company we shall allot Channel 240A to Giddings, Texas. Channel 240A can be allotted to Giddings, Texas, with a site restriction 12.1 kilometers (7.5 miles) north of the community at coordinates 30-10-54 and 96-56-12. The issue of opening a filing window for this channel will be addressed by the Commission in a subsequent Order. With this action, this proceeding is terminated.

DATES: Effective March 7, 2003.

FOR FURTHER INFORMATION CONTACT: Kathleen Scheuerle, Media Bureau, (202) 418-2180.

SUPPLEMENTARY INFORMATION: This is a summary of the Commission's Report and Order, MM Docket No. 99-331, adopted January 15, 2003, and released January 21, 2003. The full text of this Commission decision is available for inspection and copying during regular business hours in the Commission's Reference Information Center, Portals II, 445 12th Street, SW., Room CY-A257, Washington, DC 20554. This document may also be purchased from the Commission's duplicating contractor, Qualex International, Portals II, 445 12th Street, SW., Room CY-B402, Washington, DC 20554, telephone 202-863-2893, facsimile 202-863-2898, or via e-mail qualexint@aol.com.

List of Subjects in 47 CFR Part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Texas, is amended by adding Giddings, Channel 240A.

Federal Communications Commission.
John A. Karousos,
Assistant Chief, Audio Division, Media Bureau.

[FR Doc. 03-2472 Filed 2-3-03; 8:45 am]

BILLING CODE 6712-01-P